DEPARTMENT OF THE TREASURY

Office of Foreign Assets Control

Designation of Three Individuals and Seven Entities Pursuant to Executive Order 13224

AGENCY: Office of Foreign Assets Control, Treasury.

ACTION: Notice.

SUMMARY: The Treasury Department's Office of Foreign Assets Control (“OFAC”) is publishing the names of ten newly designated individuals and entities whose property and interests in property are blocked pursuant to Executive Order 13224 of September 23, 2001, “Blocking Property and Prohibiting Transactions With Persons Who Commit, Threaten To Commit, or Support Terrorism.”

DATES: The designations by the Director of OFAC of the individuals identified in this notice, pursuant to Executive Order 13224, are effective on December 09, 2010.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available from OFAC's Web site (http://www.treas.gov/ofac) or via facsimile through a 24-hour fax-on-demand service, tel.: 202/622-0077.

Background

On September 23, 2001, the President issued Executive Order 13224 (the “Order”) pursuant to the International Emergency Economic Powers Act, 50 U.S.C. 1701-1706, and the United Nations Participation Act of 1945, 22 U.S.C. 287c. In the Order, the President declared a national emergency to address grave acts of terrorism and threats of terrorism committed by foreign terrorists, including the September 11, 2001 terrorist attacks in New York, Pennsylvania, and at the Pentagon. The Order imposes economic sanctions on persons who have committed, pose a significant risk of committing, or support acts of terrorism. The President identified in the Annex to the Order, as amended by Executive Order 13268 of July 2, 2002, 13 individuals and 16 entities as subject to the economic sanctions. The Order was further amended by Executive Order 13284 of January 23, 2003, to reflect the creation of the Department of Homeland Security.

Section 1 of the Order blocks, with certain exceptions, all property and interests in property that are in or hereafter come within the United States or the possession or control of United States persons, of: (1) Foreign persons listed in the Annex to the Order; (2) foreign persons determined by the Secretary of State, in consultation with the Secretary of the Treasury, the Secretary of the Department of Homeland Security and the Attorney General, to have committed, or to pose a significant risk of committing, acts of terrorism that threaten the security of U.S. nationals or the national security, foreign policy, or economy of the United States; (3) persons determined by the Director of OFAC, in consultation with the Departments of State, Homeland Security and Justice, to be owned or controlled by, or to act for or on behalf of those persons listed in the Annex to the Order or those persons determined to be subject to subsection 1(b), 1(c), or 1(d)(i) of the Order; and (4) except as provided in section 5 of the Order and after such consultation, if any, with foreign authorities as the Secretary of State, in consultation with the Secretary of the Treasury, the Secretary of the Department of Homeland Security and the Attorney General, deems appropriate in the exercise of his discretion, persons determined by the Director of OFAC, in consultation with the Departments of State, Homeland Security and Justice, to assist in, sponsor, or provide financial, material, or technological support for, or financial or other services to or in support of, such acts of terrorism or those persons listed in the Annex to the Order or determined to be subject to the Order or to be otherwise associated with those persons listed in the Annex to the Order or those persons determined to be subject to subsection 1(b), 1(c), or 1(d)(i) of the Order.

On December 9, 2010 the Director of OFAC, in consultation with the Departments of State, Homeland Security, Justice and other relevant agencies, designated, pursuant to one or more of the criteria set forth in subsections 1(b), 1(c) or 1(d) of the Order, three individuals and seven entities whose property and interests in property are blocked pursuant to Executive Order 13224.

The designees are as follows:

1. TAJIDEEN, Ali (a.k.a. TAGEDDINE, Ali Mohamed; a.k.a. TAJ AL DIN, Ali; a.k.a. TAJEDDIN, Ali Mohammad Abdel Hassan; a.k.a. TAJEDDIN, Ali Mohammad Abed Al-Hassan; a.k.a. TAJEDDINE, Ali); DOB 1961; alt. DOB 1963; POB Hanaway, Lebanon; alt. POB Hanouay, Lebanon; alt. POB Hanawiya, Lebanon; nationality Lebanon (individual) [SDGT]

2. TAJIDEEN, Husayn (a.k.a. TAJ AL DIN, Husayn; a.k.a. TAJIDEEN, Hussein; a.k.a. TAJIDINE, Hajj Hussein), The Gambia; DOB 1963 (individual) [SDGT]

3. WEHBE, Bilal Mohsen (a.k.a. WAHBE, Bilal; a.k.a. WAHBI, Bilal Muhsin; a.k.a. WAHBI, Bilal Mohsen; a.k.a. WAHBI, Muhsin Bilal; a.k.a. WEHBI, Bilal Mohsem; a.k.a. WEHBI, Bilal Mohsen; a.k.a. WIHBI, Bilal Muhsin), Avenida Jose Maria de Brito 929, Centro,, Foz Do Iguacu, Parana State, Brazil; DOB 7 Jan 1967; Identification Number 77688048 (Brazil); Passport CZ74340 (Brazil); alt. Passport 0083628 (Lebanon); Shaykh (individual) [SDGT]

4. AFRI BELG COMMERCIO E INDUSTRIA LDA (a.k.a. AFRI BELG; a.k.a. AFRI-BELG; a.k.a. AFRI-BELG AGRICULTURE; a.k.a. AFRI-BELG CONSTRUCTION; a.k.a. AFRI-BELG SUPERMERCADOS; a.k.a. CASH & CARRY RETAIL STORES), Rua Comandante Valodia 266-268, Sao Paulo, Luanda, Angola; Avenida Comandante De Valodia n. 0.67, 1 Andar, Luanda, Angola; Email Address afribelg@snte.co.ao; Website www.grupoarosfran.net; (Afri-Belg Supermercados, Cash & Carry Retail Stores, Afri-belg Construction and Afri-Belg Agriculture are subsidiaries of Afri Belg Commercio E Industria Lda and operated from the same business address) [SDGT]

5. CONGO FUTUR (a.k.a. CONGO FUTUR IMPORT; a.k.a. CONGO FUTURE; a.k.a. GROUPE CONGO FUTUR), Avenue du Flambeau 389, Kinshasa, Congo, Democratic Republic of the; Future Tower, 3462 Boulevard du 30 Juin, Gombe, Kinshasa, Congo, Democratic Republic of the; Website www.congofutur.com [SDGT]

6. GOLFRATE HOLDINGS (ANGOLA) LDA (a.k.a. GOLFRATE; a.k.a. GOLFRATE AFRICA; a.k.a. GOLFRATE DISTRIBUTION; a.k.a. GOLFRATE FOOD INDUSTRIES; a.k.a. GOLFRATE HPC INDUSTRIES; a.k.a. GOLFRATE PAINTS (TINTAS DE DYRUP)), Avenida 4 de Fevereiro No. 13, C.P. 6172, Luanda, Angola; Avenida 4 de Fevereiro 13 R/N, Luanda, Angola; Av. 4 de Fevereiro no 13 R/C, Luanda, Angola; Email Address qassim@golfrate.com; alt. Email Address golfrategrupo@ebonet.net; alt. Email Address info@golfrateangola.com; Website www.golfrateangola.com; (Golfrate Distribution, Golfrate Food Industries, Golfrate HPC Industries and Golfrate Paints (Tintas de Dyrup) are subsidiaries of Golfrate Holdings (Angola) Lda and operate from the same business address as Golfrate Holdings (Angola) Lda.) [SDGT]

7. GRUPO AROSFRAN EMPREENDIMENTOS E PARTICIPACOES SARL (a.k.a. AROSFRAN; a.k.a. GRUPO AROSFRAM; a.k.a. GRUPO AROSFRAN), Rua Comandante de Volodia, No 67, Premiero Andar, Luanda, Angola; 1st Floor, Avenida Comandante Valodia, No. 65, Luanda, Angola; Rua Clube Maritimo Africano, No 22 r/c, Luanda, Angola; Avenida Comandante de Valodia, No. 0.67, 1 Andar, Luanda, Angola; Rua General Rocadas 5, Luanda, Angola; Email Address arosfram@netangola.com; alt. Email Address arosfran@netangola.com; alt. Email Address info@grupoarosfran.net; Website www.grupoarosfran.net [SDGT]

8. KAIRABA SUPERMARKET (a.k.a. KAIRABA SHOPPING CENTER), Kairaba Ave, P.O. Box 2176, Banjul, The Gambia; 62 Buckle Street, Banjul, The Gambia; Pipeline Road, Banjul, The Gambia [SDGT]

9. OVLAS TRADING S.A. (a.k.a. OVLAS TRADING S.A.L.), Al Salia Building, Embassy Street, Bir Hassan, Beirut, Lebanon; Akara Building, 24 De Castro Street, Wickhams Cay 1, Road Town, Tortola, Virgin Islands, British; Website www.ovlas-trading.com [SDGT]

10. TAJCO (a.k.a. TAJCO COMPANY; a.k.a. TAJCO COMPANY LLC; a.k.a. TAJCO LTD; a.k.a. TAJCO SARL; a.k.a. TRADEX CO), 1 Picton Street, Banjul, The Gambia; Dohat Building 1st Floor, Liberation Avenue, Banjul, The Gambia; 62 Buckle Street, Banjul, The Gambia; Tajco Building, Main Street, Hannawiyah, Tyre, Lebanon; Tajco Building, Hanouay, Sour (Tyre), Lebanon; 30 Sani Abacha Street, Freetown, Sierra Leone; Website www.tajco-ltd.com; alt. Website www.tajcogambia.com; (Tradex Co. is a subsidiary of Tajco Company and operates from the same business address in Freetown, Sierra Leone as Tajco Company.) [SDGT]

Dated: December 9, 2010.
Adam J. Szubin,
Director, Office of Foreign Assets Control.

[FR Doc. 2010-32003 Filed 12-20-10; 8:45 am]

BILLING CODE 4810-AL-P